DEPARTMENT OF LABOR

Employment and Training Administration

[TA-W-38,809]

Blue Mountain Products, LLC Pendleton, OR; Notice of Negative Determination on Reconsideration

On December 11, 2001, the Department issued an Affirmative Determination Regarding Application for Reconsideration for the workers and former workers of the subject firm. The notice will soon be published in the Federal Register.

The Department initially denied TAA to workers of Blue Mountain Products, LLC, Pendleton, Oregon based on criterion (3) of the group eligibility requirements of section 222 of the Trade Act of 1974, as amended, not being met. Increased imports did not contribute importantly to worker separations at the subject firm. The workers at the subject firm were engaged in employment related to the production of softwood dimensional lumber.

The petitioner feels that the survey responses may have been filled out incorrectly and that some customers did not respond.

The Department upon the request of the petitioner, examined the survey results and contracted a major customer requesting clarification of their survey response.

The clarification of the respondent's survey revealed that the customer significantly decreased its imports of softwood dimensional lumber, while decreasing its purchases from the subject firm.

Also, upon reexamination, the responses of the initial survey fairly represented customer purchases of dimensional lumber during the relevant period. A review of the survey responses revealed that declining customers significantly decreased their imports of dimensional lumber, while decreasing their purchases from the Blue Mountain Products, LLC during the relevant period.

Conclusion

After consideration, I affirm the original notice of negative determination of eligibility to apply for worker adjustment assistance for workers and former workers of Blue Mountain Products, LLC, Pendleton, Oregon.

Signed at Washington, DC, this 2nd day of January 2002.
Edward A. Tomchick,
Director, Division of Trade Adjustment Assistance.

[FR Doc. 02-2336 Filed 1-30-02; 8:45 am]

BILLING CODE 4510-30-M